DEPARTMENT OF COMMERCE

International Trade Administration

[A-570-932]

Certain Steel Threaded Rod From the People's Republic of China: Preliminary Results and Partial Rescission of the Antidumping Duty Administrative Review; 2012-2013

AGENCY: Enforcement and Compliance, International Trade Administration, Department of Commerce.

SUMMARY: The Department of Commerce (the “Department”) is conducting the fourth administrative review of the antidumping duty order on certain steel threaded rod (“STR”) from the People's Republic of China (“PRC”),¹ for the period of review (“POR”), April 1, 2012, to March 31, 2013. The Department preliminarily determines that RMB Fasteners Ltd., IFI & Morgan Ltd., and Jiaxing Brother Standard Part Co., Ltd. (collectively “the RMB/IFI Group”) sold subject merchandise in the United States at prices below normal value (“NV”). If these preliminary results are adopted in the final results, the Department will instruct U.S. Customs and Border Protection (“CBP”) to assess antidumping duties on all appropriate entries of subject merchandise during the POR. Interested parties are invited to comment on these preliminary results.

¹ See Certain Steel Threaded Rod from the People's Republic of China: Notice of Antidumping Duty Order, 74 FR 17154 (April 14, 2009) (“Order”).

DATES: Effective Date: May 28, 2014.

FOR FURTHER INFORMATION CONTACT: Julia Hancock or Jerry Huang, AD/CVD Operations, Office V, Enforcement and Compliance, International Trade Administration, Department of Commerce, 14th Street and Constitution Avenue NW., Washington, DC 20230; telephone: (202) 482-1394 or (202) 482-4047, respectively.

SUPPLEMENTARY INFORMATION:

Scope of the Order

The merchandise covered by the order includes steel threaded rod. The subject merchandise is currently classifiable under subheading 7318.15.5051, 7318.15.5056, 7318.15.5090, and 7318.15.2095 of the United States Harmonized Tariff Schedule (“HTSUS”). Although the HTSUS subheading is provided for convenience and customs purposes, the written description of the merchandise is dispositive.²

² For a full description of the scope of the Order, see Memorandum from Christian Marsh, Deputy Assistant Secretary, AD/CVD Operations, to Ronald K. Lorentzen, Acting Assistant Secretary for Enforcement and Compliance, “Decision Memorandum for Preliminary Results of Fourth Antidumping Duty Administrative Review: Certain Steel Threaded Rod from the People's Republic of China,” (“Preliminary Decision Memorandum”) (May 16, 2014).

Partial Rescission of the Administrative Review

On September 13, 2013, the Department rescinded this administrative review with respect to seven companies named in the Initiation Notice based on the timely withdrawal of requests for review.³ At that time, the Department did not rescind the review for Zhejiang New Oriental Fastener Co., Ltd. (“Zhejiang New Oriental”), because that company had not yet established its entitlement to a separate rate. On November 5, 2013, the Department issued the final results of the third administrative review of the Order and granted Zhejiang New Oriental a separate rate.⁴

³ See Certain Steel Threaded Rod from the People's Republic of China; 2012-2013; Partial Rescission of the Fourth Antidumping Duty Administrative Review, 78 FR 56655 (September 13, 2013) (“Partial Rescission Notice”); see also Initiation of Antidumping and Countervailing Duty Administrative Reviews and Request for Revocation in Part, 78 FR 33052, 33056-58 (June 3, 2013) (“Initiation Notice”). The Department incorrectly included three companies in the Initiation Notice, which was corrected in a subsequent initiation notice, where the Department removed these three companies and instead correctly initiated on two other companies. See Initiation of Antidumping and Countervailing Duty Administrative Reviews and Request for Revocation in Part, 78 FR 53128, 53130, n.6 (August 28, 2013).

⁴ See Certain Steel Threaded Rod from the People's Republic of China; Final Results of Third Antidumping Duty Administrative Review; 2011-2012, 78 FR 66330, 66332 (November 5, 2013).

Pursuant to 19 CFR 351.213(d)(1), the Secretary will rescind an administrative review, in whole or in part, if a party who requested the review withdraws the request within 90 days of the date of publication of notice of initiation of the requested review. On July 5, 2013, Vulcan Threaded Products, Inc. (“Petitioner”) timely withdrew its request for an administrative review on Zhejiang New Oriental.⁵ No other party had requested a review of Zhejiang New Oriental. Based on the timely withdrawal of the request for review and because Zhejiang New Oriental established its entitlement to a separate rate from a prior segment, the Department is rescinding this administrative review with respect to Zhejiang New Oriental, in accordance with 19 CFR 351.213(d)(1).

⁵ See Letter to the Department from Petitioner, “Certain Steel Threaded Rod from the People's Republic of China: Petitioners' Withdrawal of Review Requests for Certain Companies” (July 5, 2013).

PRC-Wide Entity

On July 5, 2013, Petitioner timely withdrew its request for review for 76 companies.⁶ No other party requested a review on these 76 companies.

⁶ Id.

For those eight companies referenced above for which a review was initiated, for which all review requests have been withdrawn, and which previously received separate rate status in a prior segment of this case, the Department rescinded the administrative review, in part, in accordance with 19 CFR 351.213(d)(1).⁷ Of the four companies for which Petitioner's requests for review remain standing, other than the mandatory respondent RMB/IFI Group which demonstrated eligibility for a separate rate, none are eligible for separate rate status or rescission, as they did not submit completed separate rate applications or certifications.⁸ Accordingly, the PRC-wide entity is under review for these preliminary results.

⁷ See Partial Rescission Notice.

⁸ These companies are: Haiyan Dayu Fasteners Co., Ltd., Jiaxing Brother Standard Part, and Zhejiang Morgan Brother Technology Co., Ltd.

None of the remaining 68 companies for which Petitioner withdrew its request for review has a separate rate. While the requests for review of these companies were timely withdrawn, those companies remain a part of the PRC-wide entity. Thus, we are not rescinding this review with respect to these companies at this time, but the Department will make a determination with respect to the PRC-wide entity at the conclusion of these preliminary results and final results.⁹ As a result, all 71 companies for which a review was initiated and which have not established entitlement to a separate rate are under review as part of the PRC-wide entity.¹⁰ For our determination with respect to the PRC-wide entity, see the Preliminary Decision Memorandum.

⁹ See, e.g., Narrow Woven Ribbons With Woven Selvedge From the People's Republic of China: Preliminary Results and Partial Rescission of Antidumping Duty Administrative Review, 77 FR 47363, 47365 (August 8, 2012), unchanged in Narrow Woven Ribbons With Woven Selvedge From the People's Republic of China: Final Results of Antidumping Duty Administrative Review; 2010- 2011, 78 FR 10130 (February 13, 2013). A change in practice with respect to the conditional review of the PRC-wide entity is not applicable to this administrative review. See Antidumping Proceedings: Announcement of Change in Department Practice for Respondent Selection in Antidumping Duty Proceedings and Conditional Review of the Nonmarket Economy Entity in NME Antidumping Duty Proceedings, 78 FR 65964, 65969-70 (November 4, 2013).

¹⁰ See Appendix I for the list of these companies.

Methodology

The Department conducted this review in accordance with section 751(a)(1)(B) of the Tariff Act of 1930, as amended (the “Act”). Export prices have been calculated in accordance with section 772 of the Act. Because the PRC is a non-market economy (“NME”) within the meaning of section 771(18) of the Act, NV has been calculated in accordance with section 773(c) of the Act.

For a full description of the methodology underlying our conclusions, see the Preliminary Decision Memorandum. The Preliminary Decision Memorandum is a public document and is on file electronically via Enforcement and Compliance's Antidumping and Countervailing Duty Centralized Electronic Service System (“IA ACCESS”). IA ACCESS is available to registered users at http://iaaccess.trade.gov, and is available to all parties in the Central Records Unit, Room 7046 of the main Department of Commerce building. In addition, a complete version of the Preliminary Decision Memorandum can be accessed directly on the Internet at http://www.trade.gov/enforcement/. The signed Preliminary Decision Memorandum and the electronic versions of the Preliminary Decision Memorandum are identical in content.

Preliminary Results of Review

The Department preliminarily determines that the following weighted-average dumping margins exist for the period April 1, 2012, through March 31, 2013:

Exporter | Weighted- average margin (ad valorem)
IFI & Morgan Ltd. and RMB Fasteners Ltd. (collectively “RMB/IFI Group”) | 51.43
PRC-Wide Rate ¹¹ | 206.00

Disclosure, Public Comment & Opportunity To Request a Hearing

The Department will disclose the calculations used in our analysis to parties in this review within five days of the date of publication of this notice in accordance with 19 CFR 351.224(b).

¹¹ The PRC-wide entity includes the companies listed in Appendix I.

Interested parties may submit case briefs within 30 days after the date of publication of these preliminary results of review.¹² Rebuttals to case briefs, which must be limited to issues raised in the case briefs, must be filed within five days after the time limit for filing case briefs.¹³ Parties who submit arguments are requested to submit with the argument (a) a statement of the issue, (b) a brief summary of the argument, and (c) a table of authorities.¹⁴ Parties submitting briefs should do so pursuant to the Department's electronic filing system, IA ACCESS.

¹² See 19 CFR 351.309(c)(1)(ii).

¹³ See 19 CFR 351.309(d)(1)-(2).

¹⁴ See 19 CFR 351.309(c)(2), (d)(2).

Any interested party may request a hearing within 30 days of publication of this notice.¹⁵ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 14th Street and Constitution Avenue NW., Washington, DC 20230.¹⁶

¹⁵ See 19 CFR 351.310(c).

¹⁶ See 19 CFR 351.310(d).

The Department intends to issue the final results of this administrative review, which will include the results of our analysis of all issues raised in the case briefs, within 120 days of publication of these preliminary results in the Federal Register, pursuant to section 751(a)(3)(A) of the Act.

Assessment Rates

Upon issuance of the final results, the Department will determine, and CBP shall assess, antidumping duties on all appropriate entries covered by this review.¹⁷ The Department intends to issue assessment instructions to CBP 15 days after the publication date of the final results of this review.

¹⁷ See 19 CFR 351.212(b).

For any individually examined respondent whose weighted average dumping margin is above de minimis (i.e., 0.50 percent) in the final results, the Department will calculate importer-specific assessment rates on the basis of the ratio of the total amount of dumping calculated for the importer's examined sales to the total entered value of sales, in accordance with 19 CFR 351.212(b)(1). Where an importer- (or customer-) specific ad valorem rate is greater than de minimis, the Department will instruct CBP to collect the appropriate duties at the time of liquidation.¹⁸ Where either a respondent's weighted average dumping margin is zero or de minimis, or an importer- (or customer-) specific ad valorem is zero or de minimis, the Department will instruct CBP to liquidate appropriate entries without regard to antidumping duties.¹⁹ We intend to instruct CBP to liquidate entries containing subject merchandise exported by the PRC-wide entity at the PRC-wide rate.

¹⁸ See 19 CFR 351.212(b)(1).

¹⁹ See 19 CFR 351.106(c)(2).

The Department announced a refinement to its assessment practice in NME cases. Pursuant to this refinement in practice, for entries that were not reported in the U.S. sales databases submitted by companies individually examined during the administrative review, the Department will instruct CBP to liquidate such entries at the PRC-wide rate. Additionally, if the Department determines that an exporter had no shipments of the subject merchandise, any suspended entries that entered under that exporter's case number (i.e., at that exporter's rate) will be liquidated at the PRC-wide rate.²⁰ The final results of this review shall be the basis for the assessment of antidumping duties on entries of merchandise covered by the final results of this review and for future deposits of estimated duties, where applicable.

²⁰ For a full discussion of this practice, see Non-Market Economy Antidumping Proceedings: Assessment of Antidumping Duties, 76 FR 65694 (October 24, 2011).

Cash Deposit Requirements

The following cash deposit requirements will be effective upon publication of the final results of this review for shipments of the subject merchandise from the PRC entered, or withdrawn from warehouse, for consumption on or after the publication date, as provided by sections 751(a)(2)(C) of the Act: (1) For the companies listed above that have a separate rate, the cash deposit rate will be that established in the final results of this review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter.

These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

These preliminary results are issued and published in accordance with sections 751(a)(1) and 777(i)(1) of the Act and 19 CFR 351.221(b)(4).

Dated: May 16, 2014.
Ronald K. Lorentzen,
Acting Assistant Secretary for Enforcement and Compliance.

Appendix I

Companies Subject to the Administrative Review That Are Part of the PRC-Wide Entity

Aihua Holding Group Co. Ltd.

Autocraft Industry (Shanghai) Ltd.

Autocraft Industry Ltd.

Billion Land Ltd.

C And H International Corporation

Changshu City Standard Parts Factory

China Brother Holding Group Co. Ltd.

China Friendly Nation Hardware Technology Limited

Ec International (Nantong) Co. Ltd.

Fastco (Shanghai) Trading Co., Ltd.

Fastwell Industry Co. Ltd.

Fuda Xiongzhen Machinery Co., Ltd.

Fuller Shanghai Co. Ltd.

Haiyan Dayu Fasteners Co., Ltd.

Haiyan Evergreen Standard Parts Co. Ltd.

Haiyan Hurras Import & Export Co. Ltd.

Haiyan Hurras Import Export Co. Ltd.

Haiyan Jianhe Hardware Co. Ltd.

Hangzhou Everbright Imp. & Exp. Co. Ltd.

Hangzhou Grand Imp. & Exp. Co., Ltd.

Hangzhou Great Imp. & Exp. Co. Ltd.

Hangzhou Lizhan Hardware Co. Ltd.

Hangzhou Tongwang Machinery Co., Ltd.

Jiabao Trade Development Co. Ltd.

Jiangsu Zhongweiyu Communication Equipment Co. Ltd.

Jiashan Steelfit Trading Co. Ltd.

Jiaxing Brother Standard Part

Jiaxing Yaoliang Import & Export Co. Ltd.

Jinan Banghe Industry & Trade Co., Ltd.

Macropower Industrial Inc.

Midas Union Co., Ltd.

Nanjing Prosper Import & Export Corporation Ltd.

New Pole Power System Co. Ltd.

Ningbiao Bolts & Nuts Manufacturing Co.

Ningbo Beilun Milfast Metalworks Co. Ltd.

Ningbo Dexin Fastener Co. Ltd.

Ningbo Dongxin High-Strength Nut Co., Ltd.

Ningbo Fastener Factory

Ningbo Fengya Imp. And Exp. Co. Ltd.

Ningbo Haishu Holy Hardware Import And Export Co. Ltd.

Ningbo Haishu Wit Import & Export Co. Ltd.

Ningbo Haishu Yixie Import & Export Co. Ltd.

Ningbo Jinding Fastening Pieces Co., Ltd.

Ningbo Mpf Manufacturing Co. Ltd.

Ningbo Panxiang Imp. & Exp, Co. Ltd.

Ningbo Yinzhou Foreign Trade Co., Ltd.

Ningbo Zhongjiang High Strength Bolts Co. Ltd

Ningbo Zhongjiang Petroleum Pipes & Machinery Co. Ltd.

Orient International Holding Shanghai Rongheng Intl Trading Co. Ltd.

Prosper Business And Industry Co., Ltd.

Qingdao Free Trade Zone Health Intl.

Qingdao Top Steel Industrial Co. Ltd.

Shaanxi Succeed Trading Co., Ltd.

Shanghai East Best Foreign Trade Co.

Shanghai East Best International Business Development Co., Ltd.

Shanghai Fortune International Co. Ltd.

Shanghai Furen International Trading

Shanghai Nanshi Foreign Economic Co.

Shanghai Overseas International Trading Co. Ltd.

Shanghai Printing & Dyeing And Knitting Mill

Shanghai Printing & Packaging Machinery Corp.

Shanghai Recky International Trading Co., Ltd.

Shanghai Sinotex United Corp. Ltd.

T and C Fastener Co. Ltd.

T and L Industry Co. Ltd.

Wuxi Metec Metal Co. Ltd.

Zhejiang Heiter Industries Co., Ltd.

Zhejiang Heiter Mfg & Trade Co. Ltd.

Zhejiang Jin Zeen Fasteners Co. Ltd.

Zhejiang Morgan Brother Technology Co. Ltd.

Zhejiang Yanfei Industrial Co., Ltd (a/k/a Jiangsu Ronry Nico Co., Ltd., Formerly Jiangsu Yanfei Industrial Co., Ltd.)

Appendix II

List of Topics Discussed in the Preliminary Decision Memorandum:

1. Background

2. Respondent Selection

3. Scope of the Order

4. Non-Market Economy Country

5. Separate Rates

6. PRC-Wide Entity

7. Surrogate Country and Surrogate Value Data

8. Surrogate Country

9. Date of Sale

10. U.S. Price—Export Price

11. Normal Value

12. Fair Value Comparisons

13. Factor Valuations

14. Currency Conversion

15. Conclusion

[FR Doc. 2014-12380 Filed 5-27-14; 8:45 am]

BILLING CODE 3510-DS-P